FEDERAL MARITIME COMMISSION

Ocean Transportation Intermediary License Applicants

Notice is hereby given that the following applicants have filed with the Federal Maritime Commission an application for a license as a Non-Vessel-Operating Common Carrier (NVO) and/or Ocean Freight Forwarder (OFF)—Ocean Transportation Intermediary (OTI) pursuant to section 19 of the Shipping Act of 1984 as amended (46 U.S.C. chapter 409 and 46 CFR part 515). Notice is also hereby given of the filing of applications to amend an existing OTI license or the Qualifying Individual (QI) for a license.

Interested persons may contact the Office of Transportation Intermediaries, Federal Maritime Commission, Washington, DC 20573, by telephone at (202) 523-5843 or by e-mail at OTI@fmc.gov.

Antillean Logistics Center, Inc. (NVO & OFF), 3038 NW North River Drive, Miami, FL 33142. Officer: Sara C. Babun, President/Director/Secretary (Qualifying Individual). Application Type: New NVO & OFF License.

AOC Freight Corporation dba AOC Limited (NVO), 20910 Normandie Avenue, Suite C, Torrance, CA 90502. Officers: Spencer Ho, Vice President/Director/Secretary (Qualifying Individual), Cindy Yim, Director/President/CFO. Application Type: New NVO License.

Balkans Air Corporation (OFF), 1703 Bath Avenue, Brooklyn, NY 11214. Officers: Begator Hila, President (Qualifying Individual), Skender Gashi, CEO. Application Type: New OFF License.

Casey Overseas Corp. (OFF), 110 West Road, Suite 420, Towson, MD 21204. Officers: Melanie C. Dvorak, President/Treasurer (Qualifying Individual), Annette Morgan, Secretary. Application Type: QI Change.

Charter Logistics USA Inc. (NVO), 15929 Gard Avenue, #2, Norwalk, CA 90650. Officer: Ray Kao, CEO/CFO/Secretary/Director (Qualifying Individual), Application Type: New NVO License.

Direct Freight Services LLC (NVO), 1810 NW 51st Place, Hanger 40A, Ft. Lauderdale, FL 33309. Officers: Neil T. Marshall, Member/Chief Executive Manager (Qualifying Individual), Stina Storr, Member/Managing Member. Application Type: New NVO License.

DW Logistics Solutions, Inc. (NVO & OFF), One Cross Island Plaza, #305, Rosedale, NY 11422-3455. Officers: John Y. Wong, Vice President of Sales and Marketing (Qualifying Individual), Hong Guo, President. Application Type: New NVO & OFF License.

Edward Transit Express Group Inc. (NVO), 1448 S. Santa Fe Avenue, Compton, CA 90221. Officer: Mei Mei Zhou, President/Vice President/Secretary/Treasurer (Qualifying Individual). Application Type: Name Change.

Embarque Bandera Shipping, Inc. (NVO), 421 Audoubon Avenue, New York, NY 10033. Officer: Amelio De Jesus Cabrera, President/Secretary (Qualifying Individual). Application Type: New NVO License.

Forbis Logistics, Corp. (NVO & OFF), 1382 NW 78th Avenue, Doral, FL 33126. Officers: Sonia E. Aguayo, Treasurer/Secretary (Qualifying Individual), Oscar Espinosa, President. Application Type: New NVO & OFF License.

Frontline Cargo Logistics, LLC (NVO & OFF), 9920 NW 21th Street, Miami, FL 33172. Officer: Ivonne C. Sola, President (Qualifying Individual). Application Type: New NVO & OFF License.

Globest International Inc. (NVO & OFF), 209 Woodland Avenue, River Edge, NJ 07661. Officers: Jong Yeoul Kim, Senior Vice President (Qualifying Individual), Mijung Kim, President. Application Type: New NVO & OFF License.

Innovation Shipping Inc. (NVO & OFF), 5460 N. Peck Road, Arcadia, CA 91006. Officers: Yolanda L. Nguyen, President/Secretary/Treasurer (Qualifying Individual), Application Type: New NVO & OFF License.

International Shipping Lines Incorporated (NVO), 2 Thorncliff Park Drive, Unit #28, Toronto, Canada. Officer: Kamran Shaikh, President. Application Type: New NVO License.

King Freight New York Inc (NVO), 1099 Wall Street, Lyndhurst, NJ 07071. Officers: Jerry Wang, Vice President (Qualifying Individual), Loong H. Chang, President/Director. Application Type: New NVO License.

Movage, Inc. (NVO), 135 Lincoln Avenue, Bronx, NY 10454. Officers: Traveler J. Schinz-Devico, VP of International Sales (Qualifying Individual), Bajo Vujovic, Director/President/Treasurer. Application Type: New NVO License.

Move Management International, Inc. (OFF), 6930 NW. 84th Avenue, Doral, FL 33166. Officers: Manuel J. Rojas, Vice President/Secretary/Treasurer (Qualifying Individual), Annette M. Diaz-Rojas, President. Application Type: License Transfer.

Quartz Logistics Inc. (NVO & OFF), 731 S. Garfield Avenue, #2A, Alhambra, CA 91801. Officers: Eva S. Chen, Secretary (Qualifying Individual), Tai Ruenn Wang, President. Application Type: New NVO & OFF License.

Red Arrow Consulting, Inc. dba Red Arrow Logistics (NVO & OFF), 14925 SE Allen Road, #203-B, Bellevue, WA 98006. Officers: Peter A. Lindsey, COO (Qualifying Individual), Lorraine E. Lasater, CEO/President/Secretary/Treasurer. Application Type: New NVO & OFF License.

Shinewell Logistics, Inc. (NVO & OFF), 1861 Western Way, Torrance, CA 90501. Officer: Hseanru aka Stephen H. Lin, President/VP/Secretary/CFO (Qualifying Individual). Application Type: New NVO & OFF License.

TFM International, LLC dba TFM Project Logistics (NVO & OFF), 5905 Brownsville Road, Pittsburgh, PA 15236. Officers: Michael S. Wagner, President (Qualifying Individual), Mark Raymond, CEO. Application Type: New NVO & OFF License.

Toshiba Logistics America, Inc. (NVO & OFF), 9740 Irvine Blvd., Irvine, CA 92618-1608. Officers: Masato Hamazaki, CEO/President (Qualifying Individual), Minoru Tanaka, CFO/Secretary. Application Type: QI Change.

Trade Services USA Inc. (NVO & OFF), 1966 Junipero Avenue, Signal Hill, CA 90755. Officer: Alaaddin Akyol, CEO/CFO/Secretary (Qualifying Individual). Application Type: New NVO & OFF License.

Vegano Shipping & Multi Services Corp. (NVO), 165 Sherman Avenue, New York, NY 10034. Officer: Pedro Sime, President/Secretary/Treasurer/VP (Qualifying Individual). Application Type: New NVO License.

YCT Logistics Inc. (NVO), 9660 Flair Drive, EL Monte, CA 91731. Officers: Terry Tsang, CEO/Secretary/President/Director (Qualifying Individual), Chris Tang, CFO. Application Type: New NVO License.

Dated: December 30, 2010.
Karen V. Gregory,
Secretary.

[FR Doc. 2010-33353 Filed 1-4-11; 8:45 am]

BILLING CODE 6730-01-P